DEPARTMENT OF AGRICULTURE

[Doc. No. AMS-FGIS-18-0053]

7 CFR Part 810

United States Standards for Canola

AGENCY: Agricultural Marketing Service, USDA.

ACTION: Request for comments from the public; reopening of comment period.

SUMMARY: The United States Department of Agriculture's (USDA) Agricultural Marketing Service (AMS) is reopening the comment period for its request for comments from the public regarding the United States (U.S.) Standards for Canola under the United States Grain Standards Act (USGSA).

DATES: The comment period for the document published June 29, 2018 at 83 FR 30590 is reopened. We will consider comments we receive by December 3, 2018.

ADDRESSES: Submit comments by any of the following methods:

• Postal Mail: Please send your comment addressed to Kendra Kline, AMS, USDA, 1400 Independence Avenue SW, Room 2043-S, Washington, DC 20250-3614.

• Hand Delivery or Courier: Kendra Kline, AMS, USDA, 1400 Independence Avenue SW, Room 2043-S, Washington, DC 20250-3614.

• Internet: Go to http://www.regulations.gov. Follow the on-line instructions for submitting comments.

FOR FURTHER INFORMATION CONTACT: Patrick McCluskey, USDA, AMS; Telephone: (816) 659-8403; Email: Patrick.J.McCluskey@ams.usda.gov.

SUPPLEMENTARY INFORMATION: On June 29, 2018, AMS published its request for comments from the public in the Federal Register (83 FR 30590) regarding the United States (U.S.) Standards for Canola under the United States Grain Standards Act (USGSA) (7 U.S.C. 71-87k). The comment period for the request for comments ended August 28, 2018. In response to requests from interested stakeholders, AMS is reopening the comment period an additional 60-days.

The realignment of offices within the U.S. Department of Agriculture authorized by the Secretary's Memorandum dated November 14, 2017, eliminates the Grain Inspection, Packers and Stockyards Administration (GIPSA) as a standalone agency. The grain inspection activities formerly part of GIPSA are now organized under AMS.

Authority: 7 U.S.C. 71-87k.

Dated: September 27, 2018.
Greg Ibach,
Under Secretary, Marketing and Regulatory Programs.

[FR Doc. 2018-21426 Filed 10-1-18; 8:45 am]

BILLING CODE 3410-02-P